DEPARTMENT OF COMMERCE

[I.D. 061203C]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Tortugas Access Permits.

Form Number(s): None.

OMB Approval Number: 0648-0418.

Type of Request: Regular submission.

Burden Hours: 8.

Number of Respondents: 31.

Average Hours Per Response: 10 minutes for an application; 2 minutes for a notification; and 90 minutes for an appeal.

Needs and Uses: Persons must obtain a permit in order to gain access to the Tortugas ecological reserve. Permit holders must notify NOAA by radio no less than 30 minutes and no more than 6 hours before entering the reserve, and when leaving it. Permit actions may be appealed The purposes of the access permit and notifications are to (1) protect this unique deepwater coral reef and (2) facilitate the enforcement of the no-take regulations in this remote area. Applications and notifications are made by phone. Appeals must be in writing.

Affected Public: Business or other for-profit organizations; individuals or households; not-for-profit institutions; and State, Local, or Tribal Government.

Frequency: On occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Room 10202, New Executive Office Building, Washington, DC 20503.

Dated: June 10, 2003.
Gwellnar Banks,
Management Analyst, Office of the Chief Information Officer.

[FR Doc. 03-15295 Filed 6-16-03; 8:45 am]

BILLING CODE 3510-NK-S